INTERNATIONAL TRADE COMMISSION

[Investigation No. 337-TA-1318]

Certain Graphics Systems, Components Thereof, and Digital Televisions Containing the Same; Institution of Investigation

AGENCY: U.S. International Trade Commission.

ACTION: Notice.

SUMMARY: Notice is hereby given that a complaint was filed with the U.S. International Trade Commission on May 5, 2022, under section 337 of the Tariff Act of 1930, as amended, on behalf of Advanced Micro Devices, Inc. of Santa Clara, California and ATI Technologies ULC of Canada. A supplement to the complaint was filed on May 18, 2022. The complaint alleges violations of section 337 based upon the importation into the United States, the sale for importation, and the sale within the United States after importation of certain graphics systems, components thereof, and digital televisions containing the same by reason of the infringement of certain claims of U.S. Patent No. 7,742,053 (“the '053 patent”), U.S. Patent No. 8,760,454 (“the '454 patent”), U.S. Patent No. 11,184,628 (“the '628 patent”), U.S. Patent No. 8,468,547 (“the '547 patent”), and U.S. Patent No. 8,854,381 (“the '381 patent”). The complaint further alleges that an industry in the United States exists and is in the process of being established as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, Office of Docket Services, U.S. International Trade Commission, telephone (202) 205-1802.

SUPPLEMENTARY INFORMATION: Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on June 1, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-9 of the '053 patent; claims 2-11 of the '454 patent; claims 7-12 of the '628 patent; claims 16-21 of the '547 patent; and claims 15-20 of the '381 patent, and whether an industry in the United States exists or in the process of being established as required by subsection (a)(2) of section 337;

(2) Pursuant to section 210.10(b)(1) of the Commission's Rules of Practice and Procedure, 19 CFR 210.10(b)(1), the plain language description of the accused products or category of accused products, which defines the scope of the investigation, is “(a) integrated circuits that incorporate one or more graphics processing units (GPUs); (b) printed circuit board assemblies containing the same; and (c) digital televisions containing the same”;

(3) For the purpose of the investigation so instituted, the following are hereby named as parties upon which this notice of investigation shall be served:

(a) The complainants are:

Advanced Micro Devices, Inc., 2485 Augustine Drive, Santa Clara, California 95054

ATI Technologies ULC, 1 Commerce Valley Drive East, Markham, ON L3T 7X6, Canada

(b) The respondents are the following entities alleged to be in violation of section 337, and are the parties upon which the complaint is to be served:

TCL Industries Holdings Co., Ltd., 22nd Floor, TCL Technical Tower, Huifeng Third Road, Zhongkai Development Zone, Huizhou, Guangdong, China 516006

TCL Industries Holdings (H.K.) Limited, 8th Floor, Building 22E, Phase Three, Hong Kong Science Park, Pak Shek Kok, New Territories, Hong Kong

TCL Electronics Holdings Limited,f/k/a TCL Multimedia Technology Holdings, Ltd., 7/F, Building 22E, 22 Science Park East Avenue, Hong Kong Science Park, Sha Tin, New Territories, Hong Kong

TCL Technology Group Corporation, TCL Technology Building, No. 17, Huifeng Third Road, Zhongkai High-tech Zone, Huizhou, Guangdong, China 516006

TTE Corporation, 7/F, Building 22E, 22 Science Park East Avenue, Hong Kong Science Park, Sha Tin, New Territories, Hong Kong

TCL Holdings (BVI) Limited, 5/F, Building 22E, 22 Science Park East Avenue, Hong Kong Science Park, Sha Tin, New Territories, Hong Kong

TCL King Electrical Appliances (Huizhou) Co. Ltd., No. 78, Huifeng Fourth Road, Zhongkai Development Zone, Huizhou, Guangdong, China 516006

Shenzhen TCL New Technologies Co., Ltd., 9th Floor, TCL Electronics Holdings Limited Building, TCL International E City, No. 1001, Zhongshan Park Road, Nanshan District, Shenzhen, Guangdong, China 518067

TCL MOKA International Limited, 7/F Hong Kong Science Park, Building 22 E, 22 Science Park East Avenue, Sha Tin, New Territories, Hong Kong

TCL Smart Device (Vietnam) Co., Ltd., No. 26 VSIP II-A, Street 32, Vietnam, Singapore Industrial Park II-A, Tan Binh Commune, Bac Tan Uyen District, Binh Duong Province, Vietnam 75000

Manufacturas Avanzadas SA de CV, Blvd. Independencia #2151, Parque Industrial Salvacar, Ciudad Juárez, Chihuahua, Mexico 32574

TCL Electronics Mexico, S de RL de CV, Av. Insurgentes Sur 1425, Insurgentes Mixcoac, Benito Juarez, Distrito Federal, Mexico 03920

TCL Overseas Marketing Ltd., 5/F, Building 22E, 22 Science Park East Avenue, Hong Kong Science Park, Sha Tin, New Territories, Hong Kong

Realtek Semiconductor Corp., No. 2, Innovation Road II, Hsinchu Science Park, Hsinchu 300, Taiwan

(4) For the investigation so instituted, the Chief Administrative Law Judge, U.S. International Trade Commission, shall designate the presiding Administrative Law Judge.

The Office of Unfair Import Investigations will not participate as a party to this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 1, 2022.
Lisa Barton,
Secretary to the Commission.

[FR Doc. 2022-12156 Filed 6-6-22; 8:45 am]

BILLING CODE 7020-02-P